DEPARTMENT OF HEALTH AND HUMAN SERVICES

Administration for Children and Families

[Program Announcement No. CFDA 93.576]

Notice of Availability of FY 2000 Discretionary Funds for Refugee Community and Family Strengthening and Integration—Program Name: Community and Family Strengthening and Integration

AGENCY: Office of Refugee Resettlement (ORR), ACF, DHHS.

ACTION: Notice of availability of FY 2000 discretionary funds for refugee Community and Family Strengthening and Integration.

SUMMARY: ORR invites eligible entities to submit competitive grant applications for Priority Area One: Community and Family Strengthening and Integration for Refugees, and Priority Area Two: Technical Assistance for the Integration of Refugees and Refugee Families into American Communities.

Applications will be accepted pursuant to the Director's discretionary authority under section 412(c) of the Immigration and Nationality Act (INA)(8 U.S.C. 1522), as amended.

Applications will be screened and evaluated as indicated in this program announcement. Awards will be contingent on the outcome of the competition and the availability of funds.

DATES: The closing date for submission of applications is July 5, 2000. See Part III of this announcement for more information on submitting applications.

FOR FURTHER INFORMATION CONTACT: Anna Mary Portz at (202) 401-1196, APortz@ACF.DHHS.GOV. Application materials are also available at the Office of Refugee Resettlement, 370 L'Enfant Promenade SW, Washington DC 20447 and on the ORR website at www.acf.dhhs.gov/program/orr.

SUPPLEMENTARY INFORMATION: This program announcement consists of four parts:

Part I: Background, legislative authority, funding availability, CFDA Number, applicant eligibility, project and budget periods, and for each of the two priority areas—program purpose and scope, allowable activities, and review criteria.

Part II: The Review Process—Intergovernmental review, initial ACF screening, and competitive review.

Part III: The Application—application forms, application submission and deadlines, certifications, general instructions for preparing a full project description, and length of application.

Part IV: Post-award—regulations, treatment of program income, and reporting.

Paperwork Reduction Act of 1995 (Pub. L. 104-13): Public reporting burden for this collection of information is estimated to average 16 hours, including the time for reviewing instructions, gathering and maintaining the data needed, and reviewing the collection of information. The following information collections are included in the program announcement: OMB Approval No. 0970-0139, ACF UNIFORM PROJECT DESCRIPTION (UPD) which expires 10/31/2000 and OMB Approval No. 0970-0036, ORR Quarterly Performance Report (QPR). An agency may not conduct or sponsor, and a person is not required to respond to, a collection of information unless it displays a currently valid OMB control number.

Part I

Background

This announcement is the fifth iteration of the Community and Family Strengthening and Integration (CFSI) program. In FY 1994, ORR first announced the Refugee Community and Family Strengthening (CFS) Program as Program Area One of the Omnibus Discretionary Social Services Announcement (59 FR 26070 (05/18/94).

The announcement distinguished program areas by activities directed at strengthening refugee communities and those directed at refugee families, and further between large urban areas and smaller urban or rural areas. “Many American communities with high concentrations of refugees have increased need for better communication and cooperation among agencies in order to increase program effectiveness, to provide services that are in touch with the needs of the refugee population, and to avoid duplication or fragmentation of services. Some of these communities have experienced a range of social and economic problems among refugee populations, particularly with regard to refugee women, youth, elderly, and in those sectors characterized by a high incidence of crime, violence, and neighborhood deterioration.”

This announcement continues to encourage service planners and providers to consider the unmet needs of refugee families and communities in the context of existing services. Through the CFSI program ORR intends to promote a local planning process where service providers and community members come together to assess how the existing services are serving refugees and what additional activities might be funded with cost-sharing support. By placing importance on communities reaching consensus with regard to projects, ORR seeks to strengthen cooperation among local service providers, community leaders, Mutual Assistance Associations, voluntary agencies, churches, and other public and private organizations involved in refugee resettlement, family, youth, and child welfare, and community mental health services. ORR intends that this process will build strategic partnerships among these groups to expand their capacity to serve the social and economic needs of refugees and to give support and direction to ethnic community participation.

The trauma refugee families may experience as a result of persecution or flight may be destabilizing to family life. Single-parent refugee families are likely to face the same stresses as U.S. single-parent families. Finally, they may live in low-income neighborhoods with higher crime rates than expected and without the benefit of an ethnic community to provide information, guidance, protection and support.

Through the CFSI program and other experience, ORR has come to recognize that refugee families residing in U.S. communities encounter significant differences in child rearing practices compared to the ethnic or national customs of their country of origin. Traditional cultures with a strong authoritarian parental role may frequently be at odds with American child rearing practices. These basic differences frequently create conflict within refugee families on how best to raise children. Further, as a result of these factors, a small number of refugee families encounter and may require the assistance of child protective services and other services of the judicial system. These experiences may not be easily understood by the refugee family and the larger refugee community leading to confusion and fear of U.S. child welfare and child protective systems. Children may also confront conflicts in fitting in with their peers or finding a sense of belonging in the schools and social groups, at the same time meeting the expectations of their parents.

Many U.S. community public services do not have the cultural expertise or language capability to work effectively with refugee families. While the Civil Rights Act of 1964 mandates equal access to public services, frequently public resources are limited, and cultural and linguistic capacity is seldom available for refugee families.

In recent years, ORR has funded initiatives for recreation for refugee youth, crime prevention among refugee youth, parenting classes, and intergenerational activities. It has become clear over time that a productive relationship with child welfare services, child protective services, childcare services, youth shelters and other youth programs such as Boys and Girls Clubs, YMCA, YWCA, after school programs, is also needed to promote the refugee families' capacity to care for their children and youth safely in their new communities.

The goal in all CFSI projects should be to build and strengthen the community's capacity to serve its members regardless of language, cultural, or ethnic differences, and to improve the quality of life and standard of living for refugee families.

Legislative Authority

This program is authorized by Section 412(c)(1)(A) of the Immigration and Nationality Act (INA)(8 U.S.C. 1522(a)(1)(A), as amended, which authorizes the Director “to make grants to, and enter into contracts with, public or private nonprofit agencies for projects (such as) (i) * * * professional refresher training, and other recertification services; (ii) to provide training in English where necessary (regardless of whether the refugees are employed or receiving cash or other assistance); and (iii) to provide where specific needs have been shown and recognized by the Director, health (including mental health) services, social services, educational and other services.” The FY 2000 Appropriation Act for the Department of Health and Human Services (Pub. L. 106-113) appropriates funds for refugee and entrant assistance activities authorized by these provisions of the INA.

As with all programs funded by appropriations pursuant to the Refugee Act, eligibility for these services is limited to persons who meet all requirements of 45 CFR 400.43 (as amended by 65 FR 15409 (03/22/00)) and 45 CFR 401.2 (Cuban and Haitian entrants), referred to collectively as “refugees”. Further, the intent of this announcement is to target primarily refugees who have arrived within the last five years and to give special consideration to the needs of refugee children and youth within those families.

Funding Availability

ORR expects to award $5.8 million in FY 2000 discretionary social service funds through this announcement. Approximately 18 projects will be awarded under Priority Area One: Community and Family Strengthening and Integration in amounts ranging from $150,000-$400,000, in three program areas—(1) Integration into U.S. Communities, (2) Family Strengthening, (3) Community Strengthening. ORR will award one cooperative agreement of approximately $800,000 under Priority Area Two: Integration Technical Assistance.

The Director reserves the right to award less, or more, than the funds described, in the absence of worthy applications, or under such other circumstances as may be deemed to be in the best interest of the government.

CFDA Number-93.576

Applicant Eligibility

Public and private nonprofit organizations, including current CFS grantees whose projects end on September 30, 2000, are eligible to apply for ORR grants. An applicant may submit only one application per priority area, under this announcement. However, they may be involved in providing services under this announcement as a member of a coalition in which another agency is the applicant.

Any private nonprofit organization submitting an application must submit proof of its nonprofit status at the time of submission. A nonprofit agency can accomplish this by providing a copy of the applicant's listing in the Internal Revenue Service's (IRS) most recent list of tax-exempt organizations described in Section 501(c)(3) of the IRS code or by providing a copy of the currently valid IRS tax exemption certificate.

Project and Budget Periods

This announcement invites applications for project periods up to three years. Awards, on a competitive basis, will be for a one-year budget period although project periods may be for three years. Applications for continuation grants funded under these awards, beyond the one-year budget period but within the three-year project period, will be entertained in subsequent years on a noncompetitive basis, subject to availability of funds, satisfactory progress of the grantee and a determination that continued funding would be in the best interest of the Government.

Priority Area One: CFSI

Purpose and Scope—This program announcement governs the availability of, and award procedures, for the FY 2000 Community and Family Strengthening and Integration Program and provides an opportunity for States and nonprofit organizations to request funding for activities which supplement and complement employment-related services by strengthening refugee families and communities and by enhancing their integration into mainstream society. ORR is interested in funding Priority Area One, CFSI projects, in three program areas:

(1) Integration into U.S. Communities

(2) Family Strengthening

(3) Community Strengthening

Applications may include activities in more than one program area. Applicants will designate the area under which they wish to be considered. ORR is particularly interested in projects which are planned and implemented through coalitions, address refugee needs for cultural and linguistic access to services, and provide cost-sharing support.

Coalitions

Refugee programs and local organizations, which have not already done so, are encouraged to build coalitions for the purpose of providing services funded under this Program Area. ORR strongly encourages single applications from partnerships or consortia of three or more eligible organizations. Partners may be in the refugee services provider community of organizations and institutions, or in mainstream services organizations, e.g., public or private child welfare and child protective services, child care coalitions, community mental health services, women's shelters, or adult basic and continuing education providers. Collaboration may also include the Mayor's office, school parent-teacher groups, school counselors, local police departments, and other mainstream community service organizations.

All applicants should demonstrate existing refugee community support for their agency and their proposed project. If the applicant is located in an area where no other organizations work with refugees, and a coalition with other organizations is not possible, the applicant should demonstrate how the proposed services will be effectively provided by a single agency.

In this context, ORR is defining partnership as a negotiated arrangement among organizations that provides for a substantive, collaborative role for each of the partners in the planning and conduct of the project. Applications which represent a coalition of providers should include a signed partnership agreement stating a commitment or an intent to commit or receive resources from the prospective partner(s) contingent upon receipt of ORR funds, and for the lead agency, which is to be the fiscal agent, a copy of the most recent audit report. The agreement should state how the partnership arrangement relates to the objectives of the project. The applicant should also include: supporting documentation identifying the resources, experience, and expertise of the partner(s); evidence that the partner(s) has been involved in the planning of the project; and a discussion of the role of the partner(s) in the implementation and conduct of the project.

Cultural and Linguistic Compatibility

In all cases, regardless of the nature of the organization proposed to provide services or conduct activities funded under this announcement, the services/activities should be conducted in a manner linguistically and culturally compatible with the refugee families or communities to be served. In addition, the applicant must describe how proposed providers will have access to the families and to the community to be served.

In planning the project, applicants must include representatives of the target population and relevant public and private agencies active in service delivery in the proposed activity areas. As examples, a project being designed for refugee youth must include both refugee youth and public and private youth service providers among the planners; an applicant proposing English language and literacy for homebound refugee women must involve them along with ELT and literacy practitioners in the planning.

Furthermore, if interpreters are proposed in the first budget period, applicant must demonstrate how these staff will be used in subsequent years of the project, and whether they will be trained to assume an integral role in the project, such as to become service providers.

Applicants and any proposed partners should provide evidence that their governing bodies, boards of directors, or advisory bodies are representative of the refugee communities being served and have both male and female representation.

Cost-Sharing

Long-range viability for CFSI services may depend on: linkages to activities funded by other sources, the availability of expertise in the community, the likelihood of tangible results, the willingness of the community to participate actively including volunteer commitment in assuring the success of the project, and ultimately the community's capacity to continue the activity without additional ORR resources beyond the three-year project period.

Cost-sharing” is used here to refer to any situation in which the grantee shares in the costs of a project. The term “recipient contributions” refers to costs borne by the grantee, either through cash outlay or the provision of services. “In-kind contributions” means the value of goods and/or services donated by third parties. Grantees are not considered as providing “in-kind contributions.” The cost-sharing or in-kind contribution costs are subject to the rules governing allowability in 45 CFR 74.23 or 92.24, including allowability under the applicable cost principles and conformance with other terms and conditions of the award that govern the expenditure of Federal funds.

Grantees must provide at least ten percent of the total approved cost of the project for the first year, 25% for the second year, and 40 percent for the third year. The total approved cost of the project is the sum of the ACF share and the non-Federal share. The non-Federal share may be met by cash or in-kind contributions, although applicants are encouraged to meet their match requirements through cash contributions. Therefore, a project requesting $675,000 in Federal funds (based on an award of $225,000 per budget period) must provide cost-sharing of at least $22,500, ten percent in the first 12-month budget period. In subsequent continuation applications, the grantee will be asked to document receipt of non-ORR funds from other sources. If the second year request is for a Federal share of $225,000, the grantee would be required to provide, at a minimum, cost-sharing of $75,000, or 25 percent of the full budget. In the third year, the grantee might propose to cost-share 50% of the project (must be at least 40%), and the Federal share would be an equal amount.

Grantees will be held accountable for commitments of non-Federal resources even if over the amount of the required cost-sharing. Failure to provide the amount will result in disallowance of Federal share.

Income generated from activities funded under this program shall be “used to finance the nonfederal share of” (ref.: 45 CFR 74.24 and 92.25) the project.

Applicants are urged to plan for the use of these funds in a manner that complements other Federal, State, and private funds available to assist the target populations and to carry out similar programs and activities.

Allowable Activities

ORR will consider applications for services which an applicant justifies, based on an analysis of service needs and available resources to address the social and economic problems and integration needs of refugee families and of the refugee community. It should be clear what is the goal or expected outcome of the activity, how it responds to the particular needs of families in that community or to a broader need of the community of families, who is committed to do what in order to accomplish this goal, and how the proposed activity fits into the existing network of services. An application may include activities in more than one program area. In selecting the program area against which the application will compete, applicants should consider the nature of outcomes for which they will be accountable. In instances where an applicant proposes activities which cut across program areas, the choice of program area should correspond to the proposed results or outcomes.

The specific services proposed may be as diverse as the refugee populations and the resettlement communities themselves. Proposed activities and services should be planned in conjunction with existing service providers and should supplement and complement these services.

Refugee families face many challenges when resettling in U.S. communities: family relationships may undergo stress and change; strong authoritarian and sometimes patriarchal family structures may provoke conflicts; schools and parents have different relationships; the range of freedom American youths are afforded may concern refugee parents; and discipline practices and spousal relations may differ from what is preferred or legal in the U.S. Typically income levels of refugee households dictate that they are often located in neighborhoods with high crime rates. Special attention should be placed on enhancing refugee access to services available to all citizens, including those community institutions which serve youth, women, or special needs populations.

Listed below are some examples of allowable activities organized by program area:

Program Area One: Integration Into U.S. Communities

Activities designed to inform and orient the refugee community regarding issues essential to effective participation in the new society.

Assistance to parents in connecting with the school system and other local community organizations.

Training and assistance for refugee women to enhance their integration and afford them full opportunities to participate in community development.

Continuing education programs for U.S.-recognized re-certification or skill-building.

Specialized English Training for groups outside the regular classes, e.g., mothers of small children, homebound refugees with particular attention to accessibility of site and time.

Activities designed to facilitate adjustment of status, family reunification, and naturalization.

Activities designed to improve relations among refugees and the law enforcement communities such as drop-in centers or neighborhood storefronts.

Neighborhood watch programs.

Cross cultural training for the law enforcement community i.e., police departments, court system, mediation or dispute management centers. (Please note: Law enforcement activities such as hiring sworn police officers (except those who are public service officers or community liaison officers whose job it is to work with the refugee community), fingerprinting, incarceration, etc., are outside the scope of allowable services under the Refugee Act and will not be considered for funding. (Activities principally focused on parole counseling or court advocacy will not be funded.)

Program Area Two: Family Strengthening

Promotion of access to family service agencies that support families.

Classes and activities to support parenting skills, including information about U.S. cultural and legal issues, (e.g.), parental interaction with schools, family recreation, discipline practices, practices of corporal punishment, intergenerational conflict, child abuse, child protective services.

Development of refugee families as foster parents for refugee children.

Cross-cultural training for child protective service agencies, courts, county agencies, private businesses, and other organizations that work in this area.

Orientation and information regarding U.S. family structure, roles of men and women, divorce practices, intra-family violence intervention, sexual harassment and coercion, techniques for protection and agencies for refuge and support.

Training for staff and/or bi-lingual staff development for domestic violence or runaway youth shelters, etc.

Program Area Three: Community Strengthening

Operating community centers for the delivery of services to refugee individuals and families. Centers may also be used for information and referral services, childcare, and community gatherings. (Costs related to construction or renovation will not be considered, and costs for food or beverages are not allowable).

Communities might be organized for housing cooperatives, for youth activities, for violence intervention, for volunteer ELT and literacy services, or for crime prevention.

Development of staff in community based organizations working directly with refugees. Such activities may include training and professional consultation to increase knowledge and understanding of refugee flight and distress, and how to work with people under stress, and to increase information and understanding of how refugees are referred to or use mental health services.

Development of training curriculum and materials for relevant staff development.

Orientation and information for refugees to normalize the experience of refugee flight trauma and their reactions to the trauma, and to seek appropriate social adjustment or mental health services.

Orientation and information on refugees and resettlement for mainstream mental health providers and professionals who may have refugees in their care.

The above are only examples of services. They are not intended to limit potential applicants in community planning. They are listed and generically described without regard to the population to be served. It will be necessary in the application to describe more specifically the target population. For example, one activity might be appropriately designed to serve only homebound women. Another might be designed for teenagers and their parents. Another might be for English language training and naturalization classes. Some might be targeted for all members of the family. Applications should correlate a planned activity with specific target audiences and discuss the relationship between the proposed activities and the target population.

Funds will not be awarded to applicants who propose to engage in activities which are designed primarily to promote the preservation of cultural heritage or which have a political objective. ORR encourages refugee community efforts to preserve cultural heritage, but believes communities should support these activities with alternative funding.

Review Criteria

All priority area one applications regardless of program area designation will be evaluated according to the following criteria:

Results or Benefits Expected—The applicant clearly described the results and benefits to be achieved. The applicant identifies how improvement will be measured on key indicators for refugee family well-being or community strengthening and integration, and provides milestones indicating progress. Proposed outcomes are tangible and achievable within the grant project period, and the proposed monitoring and information collection is adequately planned. (30 points)

Approach—The strategy and plan is likely to achieve the proposed results; the proposed activities and timeframes are reasonable and feasible. The plan describes in detail how the proposed activities will be accomplished as well as the potential for the project to have a positive impact on the quality of life for refugee families and communities (1) by improving refugees' abilities to access services, to provide mutual assistance, and to demand or create services where they are not available; and (2) by instituting changes among service providers to make them more accessible. (25 points)

Organization Profiles—Where coalition partners are proposed, the applicant has described the rationale for the collaboration, each partner agency's respective role, and how the coalition will enhance the accomplishment of the project goals. In all cases, the applicant describes planning consultation efforts undertaken, including consultation with the refugee community. The proposed coalition is appropriate with respective roles and financial responsibilities delineated. Evidence of commitment of coalition partners in implementing the activities is demonstrated, i.e., by letters or the terms of the signed agreement among participants.

The applicant or coalition partners provide documented experience in performing the proposed services as well as adequate gender balance and constituent representation on the proposed project's advisory board.

Assurance is provided that proposed services will be delivered in a manner that is linguistically and culturally appropriate to the target population.

Individual organization staff including volunteers are well-qualified. The administrative and management features of the project, including a plan for fiscal and programmatic management of each activity, is described in detail with proposed start-up times, ongoing timelines, major milestones or benchmarks, a component/project organization chart, and a staffing chart. The applicant has provided a copy of its most recent audit report. (25 points)

Budget and Budget Justification—The budget and narrative justification are reasonable in relation to the proposed activities and anticipated results; the applicant makes provision for cost-sharing (i.e. leveraging ORR funds with non-Federal funds or in-kind support) to maintain the full budget during the overall project; the plan for the continuation of services with phase-out of ORR grant funding over the multi-year project period is realistic; and the applicant describes the extent to which the award is projected to be augmented or supplemented by other funding during and beyond the grant period (i.e. in the second and any subsequent year), or can be integrated into other existing service systems. (20 points)

Priority Area Two: Technical Assistance for the Integration of Refugees and Refugee Families Into American Communities

Purpose and Scope

ORR proposes to award one cooperative agreement to provide technical assistance and training to refugees, refugee service agencies, and other community organizations to assist in the integration of refugees into the mainstream of American community life. Through this project, communities and other organizations will be assisted in helping refugees gain access to, participate in, and contribute to, the economic, educational, social and civic life of the community in which they live.

The objectives of this grant are:

1. To analyze the status of refugee integration in six communities and produce a blueprint describing those factors which contribute to refugees being accepted—or not accepted—into the community;

2. To assist selected communities in organizing to develop an action plan for improved community integration;

3. To provide some financial assistance to enable one or more community agencies to carry out the plan; and,

4. To analyze the results of that effort.

As a result of this project, communities and resettlement community organizations will be better able to assist refugees in gaining access, in measurable ways, to local economic opportunities, community health and mental health resources, safe and affordable housing, participation in local school systems, and continuing education and vocational training. The technical assistance project should be designed to promote refugees' contributions to their communities through activities such as neighborhood revitalization and crime watch, small business development, bilingual staffing of local community services, naturalization rates, and participation in the community civic activities.

Under this cooperative agreement, ORR intends to: (1) Assist in developing key indicators of integration; (2) participate in the selection and field reviews of the six selected community sites; (3) review all written materials prior to their release; and (4) review and approve proposed workshops, meetings, and agenda.

The grantee will be required to: (1) Identify community agencies and institutions with the capacity and commitment to engage constructively with refugee communities and to provide them services; (2) analyze refugee community's access to services through field interviews and other assessment strategies, and prepare a blueprint of findings; (3) prepare, in collaboration with the community, an action plan for mobilizing public and private community agencies, businesses, and institutions to increase opportunities for refugees to become self-sufficient and more fully integrated into the mainstream life of the community; (4) provide, through a competitive process, sub-grant funds for implementation of the action plan; and (5) prepare and disseminate reports on refugee community characteristics, achievements, and best practices.

Approximately $800,000 has been allocated for this project. Of this amount, $350,000 has been allocated for the purposes of the technical assistance grant. An additional $450,000 is available to the technical assistance grantee to provide funding for a local agency or consortium of agencies to implement the community action plan in up to three sites at up to $150,000 per site.

Allowable Activities

Applicants may propose all or a combination of the activities suggested below as well as other activities which support the purposes of this priority area:

Assess the local economic and social conditions, including poverty and isolation, transportation, health and mental health services, local coordination of, or linkage to, resources and services, existing housing stock, labor market opportunities, and the interaction among refugees, immigrant communities, and other local residents.

Assess local organizational strengths and weaknesses, refugee community needs, and the impact of refugees on the local community.

Analyze access to culturally and linguistically appropriate services by generation cohort (elderly, youth, etc.) and gender.

Facilitate the flow and exchange of community information on resources, services, and opportunities, developing a blueprint for refugee integration.

Engage State and county agencies and community advocates in program planning and community development.

Assist local organizations in developing partnerships and an action plan for local refugee integration.

Review Criteria

Priority Area Two applications will be evaluated according to the following criteria:

Results or Benefits Expected—The applicant clearly described the results and benefits to be achieved, such as improvement along key indicators for refugee integration, and the production of best practices manuals or training materials. (25 points)

Approach—The technical assistance plan is clearly described and appropriate; the proposed activities and timeframes are reasonable and feasible. The plan describes in detail how the proposed activities will be accomplished. (25 points)

Organization Profiles—The applicant demonstrates the capacity of the organization to achieve the project's objectives. Organizational expertise and experience in community development and in the provision of technical assistance activities are described and are appropriate for this project. (25 points)

Budget and Budget Justification—The budget is accurate, reasonable, clearly presented, and cost-effective. (25 points)

Part II: The Review Process

Intergovernmental Review

This program is covered under Executive Order 12372, Intergovernmental Review of Federal Programs, and 45 CFR part 100, Intergovernmental Review of Department of Health and Human Services Programs and Activities. Under the Order known as Single Point of Contact or SPOC, States may design their own processes for reviewing and commenting on proposed Federal assistance under covered programs.

As of November 20, 1998, the following jurisdictions have elected not to participate in the Executive Order process: Alabama; Alaska; American Samoa; Colorado; Connecticut; Kansas; Hawaii; Idaho; Louisiana; Massachusetts; Minnesota; Montana; Nebraska; New Jersey; Ohio; Oklahoma; Oregon; Palau; Pennsylvania; South Dakota; Tennessee; Vermont; Virginia; and Washington. Applicants from these jurisdictions or for projects administered by federally recognized Indian Tribes need take no action in regard to E.O. 12372.

Applicants from participating jurisdictions should contact their SPOCs as soon as possible to alert them of the prospective applications and receive instructions. Applicants must submit any required material to the SPOCs as soon as possible so that the program office can obtain and review SPOC comments as part of the award process. The applicant must submit any required materials to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Refugee Resettlement, 370 L'Enfant Promenade SW, 6th Floor, Washington DC, 20447 ATTN: Ms. Daphne Weeden.

A list of the Single Points of Contact for each participating State and Territory can be found on the web at: http://www.dhhs.gov/progorg/grantsnet/laws-reg/spoq0695.htm.

Initial ACF Screening

Each application submitted under this program announcement will undergo a pre-review to determine that (1) the application was received by the closing date and submitted in accordance with the instructions in this announcement and (2) the applicant is eligible for funding.

Competitive Review and Evaluation Criteria

Applications which pass the initial ACF screening will be evaluated and rated by an independent review panel on the basis of evaluation criteria specified in Part I. The evaluation criteria were designed to assess the quality of a proposed project, and to determine the likelihood of its success. The evaluation criteria are closely related and are considered as a whole in judging the overall quality of an application. Points are awarded only to applications which are responsive to the evaluation criteria within the context of this program announcement.

Priority Area One applications will be scored and ranked in three groups corresponding to the three program areas.

Part III: The Application

In order to be considered for a grant under this program announcement, an application must be submitted on the forms supplied and in the manner prescribed by ACF. Selected elements of the ACF Uniform Project Description (UPD) relevant to this program announcement are attached as an appendix.

Application Forms

Applicants for financial assistance under this announcement must file the Standard Form (SF) 424, Application for Federal Assistance; SF 424A, Budget Information—Non-construction Programs; SF 424B, Assurances—Non-Construction Programs. The forms may be reproduced for use in submitting applications. Application materials including forms and instructions are also available from the Contact named in the preamble of this announcement.

Application Submission And Deadlines

An application with an original signature and two clearly identified copies is required. Applicants must clearly indicate on the SF424 the Priority Area under which the application is submitted, and if Priority Area One, then also the Program Area under which the project is to be considered.

The closing date for submission of applications is July 5, 2000. Mailed applications postmarked after the closing date will be classified as late.

Mailed applications shall be considered as meeting an announced deadline if they are either received on or before the deadline date or sent on or before the deadline date and received by ACF in time for the independent review to: U.S. Department of Health and Human Services, Administration for Children and Families, Office of Refugee Resettlement, Attention: Ms. Daphne Weeden.

Applicants must ensure that a legibly dated U.S. Postal Service postmark or a legibly dated, machine produced postmark of a commercial mail service is affixed to the envelope/package containing the application(s). To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand-carried by applicants, applicant couriers, or by other representatives of the applicant shall be considered as meeting an announced deadline if they are received on or before the deadline date, between the hours of 8 a.m. and 4:30 p.m., EST, at the U.S. Department of Health and Human Services, Administration for Children and Families, the Office of Refugee Resettlement, 6th Floor, Aerospace Building, 901 D Street, SW, Washington, DC 20447 between Monday and Friday (excluding Federal holidays). The address must appear on the envelope/package containing the application with the note “Attention: Ms. Daphne Weeden.” (Applicants are cautioned that express/overnight mail services do not always deliver as agreed.)

ACF cannot accommodate transmission of applications by fax or through other electronic media. Therefore, applications transmitted to ACF electronically will not be accepted regardless of date or time of submission and time of receipt.

Late applications

Applications which do not meet the criteria above are considered late applications. ACF shall notify each late applicant that its application will not be considered in the current competition.

Extension of deadlines

ACF may extend application deadlines when circumstances such as acts of God (floods, hurricanes, etc.) occur, or when there are widespread disruptions of mail service. Determinations to extend or waive deadline requirements rest with the Chief Grants Management Officer.

For Further Information on Application Deadlines Contact: Ms. Daphne Weeden, Administration for Children and Families, Office of Refugee Resettlement, 370 L'Enfant Promenade, SW, 6th Floor, Washington, DC 20447, Telephone: (202) 401-4577.

Certifications, Assurances, and Disclosure Required for Non-Construction Programs

Applicants requesting financial assistance for non-construction projects must file the Standard Form 424B, “Assurances: Non-Construction Programs.” Applicants must sign and return the Standard Form 424B with their applications.

Applicants must provide a signed certification regarding lobbying with their applications, when applying for an award in excess of $100,000. Applicants who have used non-Federal funds for lobbying activities in connection with receiving assistance under this announcement shall complete a disclosure form to report lobbying.

Applicants must make the appropriate certification of their compliance with the Drug Free Workplace Act of 1988. By signing and submitting the application, the applicant is providing the certification and need not mail back the certification with the applications.

Applicants must make the appropriate certification that they are not presently debarred, suspended or otherwise ineligible for an award. By signing and submitting the application, the applicant is providing the certification and need not mail back the certification with the applications.

General Instructions for Preparing a Full Project Description

The project description provides a major means by which an application is evaluated and ranked to compete with other applications for available assistance. The project description should be concise and complete and should address the activity for which Federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested. Please refer to the UPD sections in the appendix.

Length of Applications

Each application narrative should not exceed 25 double-spaced pages in a 12-pitch font. Attachments and appendices should not exceed 25 pages and should be used only to provide supporting documentation such as administration charts, position descriptions, resumes, and letters of intent or partnership agreements. Each page should be numbered sequentially, including the attachments or appendices. This limitation of 25 pages per program area should be considered as a maximum, and not necessarily a goal.

Please do not include books or videotapes as they are not easily reproduced and are, therefore, inaccessible to the reviewers.

Part IV: Post-Award

Applicable Regulations—Applicable DHHS grant administration regulations can be found in 45 CFR part 74 or 92.

Treatment of Program Income

Program income from activities funded under this program may be retained by the recipient and added to the funds committed to the project through cost-sharing, and used to further program objectives.

Reporting Requirements

Grantees are required to file the Financial status Report (SF-269) and Program Performance Reports on a semi-annual basis. Funds issued under these awards must be accounted for and reported upon separately from all other grant activities. Although ORR does not expect the proposed projects to include evaluation activities, it does expect grantees to maintain adequate records to track and report on project outcomes and expenditures. The official receipt point for all reports and correspondence is the ORR Grants Officer, Ms. Daphne Weeden, Administration for Children and Families/Office of Refugee Resettlement, 370 L'Enfant Promenade SW, 6th Floor, Washington, DC 20447, Telephone: (202) 401-4577. An original and one copy of each report shall be submitted within 30 days of the end of each reporting period directly to the Grants Officer.

A Final Financial and Program Report shall be due 90 days after the project expiration date or termination of Federal budget support.

Dated: May 1, 2000.
Lavinia Limón,
Director, Office of Refugee Resettlement.

Appendix I—Uniform Project Description—Overview OMB No. 0970-0139

Expires 10/31/00

Purpose

The project description provides a major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

General Instructions

Cross-referencing should be used rather than repetition. ACF is particularly interested in specific factual information and statements of measurable goals in quantitative terms. Project descriptions are evaluated on the basis of substance, not length. Extensive exhibits are not required. (Supporting information concerning activities that will not be directly funded by the grant or information that does not directly pertain to an integral part of the grant funded activity should be placed in an appendix.) Pages should be numbered and a table of contents should be included for easy reference.

Introduction

Applicants required to submit a full project description shall prepare the project description statement in accordance with the following instructions.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, when applying for a grant to establish a neighborhood child care center, describe who will occupy the facility, who will use the facility, how the facility will be used, and how the facility will benefit the community which it will serve.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of microloans made. When accomplishments cannot be quantified by activity or function, list them in chronological order to show the schedule of accomplishments and their target dates.

Identify the kinds of data to be collected, maintained, and/or disseminated. Note that clearance from the U.S. Office of Management and Budget might be needed prior to a “collection of information” that is “conducted or sponsored” by ACF. List organizations, cooperating entities, consultants, or other key individuals who will work on the project along with a short description of the nature of their effort or contribution.

Geographic Location

Describe the precise location of the project and boundaries of the area to be served by the proposed project. Maps or other graphic aids may be attached.

Staff and Position Data

Provide a biographical sketch for each key person appointed and a job description for each vacant key position. A biographical sketch will also be required for new key staff as appointed.

Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Dissemination Plan

Provide a plan for distributing reports and other project outputs to colleagues and the public. Applicants must provide a description of the kind, volume and timing of distribution.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: Costs of tangible, non-expendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. If procurement competitions were held or if procurement without competition is being proposed, attach a list of proposed contractors, indicating the names of the organizations, the purposes of the contracts, the estimated dollar amounts, and the award selection process. Justify any anticipated procurement action that is expected to be awarded without competition and exceed the simplified acquisition threshold fixed at 41 USC 403(11) (currently set at Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

Self explanatory.

[FR Doc. 00-11258 Filed 5-4-00; 8:45 am]

BILLING CODE 4184-01-P